FEDERAL COMMUNICATIONS COMMISSION

47 CFR Part 73

[DA 00-524; MM Docket 98-135; RM-9300, 9383]

Radio Broadcasting Services; Lufkin and Corrigan, TX

AGENCY: Federal Communications Commission.

ACTION: Final rule.

SUMMARY: The document grants the Petition for Reconsideration filed by Corrigan Broadcasting Company of our Report and Order, 64 FR 65712 (November 23, 1999) which allotted Channel 232A to Corrigan, Texas and Channel 261A to Lufkin, Texas. In light of the Commission's action herein, Channel 261A is substituted for Channel 232A at Corrigan and the Commission's action allotting Channel 261A to Lufkin is reversed. The coordinates for Channel 261A at Corrigan are North Latitude 30-59-48 and West Longitude 94-49-48. With this action, this proceeding is terminated.

DATES: Effective April 24, 2000.

FOR FURTHER INFORMATION CONTACT: Arthur D. Scrutchins, Mass Media Bureau, (202) 418-2180.

SUPPLEMENTARY INFORMATION: This is a synopsis of the Commission's Memorandum Opinion and Order, MM Docket No. 98-135, adopted March 1, 2000, and released March 10, 2000. The full text of this Commission decision is available for inspection and copying during normal business in the Commission's Reference Information Center (Room CY-A257) at its headquarters, 445 12th Street, S.W. Washington, D.C. The complete text of this decision may also be purchased from the Commission's copy contractors, International Transcription Service, Inc. (202) 857-3800, 1231 20th Street, N.W., Washington, D.C. 20036.

List of Subjects in 47 CFR Part 73

Radio broadcasting.

Part 73 of Title 47 of the Code of Federal Regulations is amended as follows:

PART 73—[AMENDED]

The authority citation for Part 73 continues to read as follows:

Authority: Sections 303, 48 Stat., as amended, 1082; 47 U.S.C. 154, as amended.

§ 73.202 [Amended]

1. Section 73.202(b), the Table of FM Allotments under Texas is amended by removing Channel 232A from Corrigan and adding Channel 261A at Corrigan, and removing Channel 261A from Lufkin.

Federal Communications Commission.
John A. Karousos,
Chief, Allocations Branch, Policy and Rules Division, Mass Media Bureau.

[FR Doc. 00-7599 Filed 3-27-00; 8:45 am]

BILLING CODE 6712-01-U